DEPARTMENT OF COMMERCE

International Trade Administration

[C-570-913]

Certain New Pneumatic Off-The-Road Tires From the People's Republic of China: Preliminary Results and Partial Rescission of the Countervailing Duty Administrative Review; 2017

AGENCY: Enforcement and Compliance, International Trade Administration, Department of Commerce.

SUMMARY: Department of Commerce (Commerce) preliminarily determines that countervailable subsidies are being provided to producers and exporters of new pneumatic off-the-road tires from the People's Republic of China (China). In addition, we are rescinding this review with respect to three companies. The period of review (POR) is January 1, 2017 through December 31, 2017. Interested parties are invited to comment on these preliminary results.

DATES: Applicable November 18, 2019.

FOR FURTHER INFORMATION CONTACT: Chien-Min Yang or Jack Zhao, AD/CVD Operations, Office VII, Enforcement and Compliance, International Trade Administration, U.S. Department of Commerce, 1401 Constitution Avenue NW, Washington, DC 20230; telephone: (202) 482-5484 or (202) 482-1396, respectively.

Scope of the Order

The products covered by the order are new pneumatic tires designed for off-the-road (OTR) and off-highway use. For a full description of the scope of this order, see the Preliminary Decision Memorandum.¹

¹ See “Decision Memorandum for the Preliminary Results and Partial Rescission of the Countervailing Duty Administrative Review of Certain New Pneumatic Off-The-Road Tires from the People's Republic of China; 2017,” dated concurrently with, and hereby adopted by, this notice (Preliminary Decision Memorandum).

Methodology

On September 4, 2008, Commerce issued a countervailing duty order on new pneumatic tires designed for OTR and off-highway use.² Commerce is conducting this administrative review in accordance with section 751(a)(1)(A) of the Tariff Act of 1930, as amended (the Act). For each of the subsidy programs found countervailable, we preliminarily find that there is a subsidy (i.e., a financial contribution from an authority that gives rise to a benefit to the recipient) and that the subsidy is specific.³

² See Certain New Pneumatic Off-the-Road Tires from the People's Republic of China: Countervailing Duty Order, 73 FR 51627 (September 4, 2008) (OTR Tires China CVD Order).

³ See sections 771(5)(B) and (D) of the Act regarding financial contribution; section 771(5)(E) of the Act regarding benefit; and section 771(5A) of the Act regarding specificity.

For a full description of the methodology underlying our preliminary conclusions, including our reliance, in part, on adverse facts otherwise available, pursuant to sections 776(a) and (b) of the Act, see the Preliminary Decision Memorandum. A list of topics discussed in the Preliminary Decision Memorandum is provided in the appendix to this notice.

The Preliminary Decision Memorandum is a public document and is on file electronically via Enforcement and Compliance's Antidumping and Countervailing Duty Centralized Electronic Service System (ACCESS). ACCESS is available to registered users at http://access.trade.gov, and is available to all parties in the Central Records Unit, room B8024 of the main Commerce building. In addition, a complete version of the Preliminary Decision Memorandum can be accessed directly at http://enforcement.trade.gov/frn/. The signed and the electronic versions of the Preliminary Decision Memorandum are identical in content.

Partial Rescission of Administrative Review

Pursuant to 19 CFR 351.213(d)(1), Commerce will rescind an administrative review, in whole or in part, if the party or parties that requested a review withdraws the request within 90 days of the publication date of the notice of initiation of the requested review. On September 28, 2018, we received timely requests to conduct an administrative review from Triangle Tyre Co., Ltd. (Triangle), Laizhou Xiongying Rubber Industry Co., Ltd. (Xiongying), and Qingdao Jinhaoyang International Co., Ltd. (Jinhaoyang).⁴ On October 1, 2018, Super Grip Corporation and Weihai Zhongwei Rubber Co., Ltd. (Zhongwei) each filed requests that Zhongwei be reviewed.⁵ Xiongying, Jinhaoyang, and Triangle each timely submitted withdrawal requests within 90 days of the publication date of the notice of initiation. No other parties requested an administrative review of the order with respect to these entities. Therefore, in accordance with 19 CFR 351.213(d)(1), Commerce is rescinding this administrative review of the OTR Tires China CVD Order with respect to these three parties.

⁴ See Triangle's Letter, “New Pneumatic Off-the-Road Tires from the People's Republic of China: Request for Administrative Review,” dated September 28, 2018; Xiongying's Letter, “Certain New Pneumatic Off-the-Road Tires from the People's Republic of China: Request for Review,” dated September 28, 2018; and Jinhaoyang's Letter, “Jinhaoyang's Request for CVD Administrative Review Certain New Pneumatic Off-the-Road Tires from China (C-570-913),” dated September 28, 2018.

⁵ See Super Grip's Letter, “New Pneumatic Off-the-Road Tires People's Republic of China Request for Administrative Review,” dated October 1, 2018; see also Zhongwei's Letter, “New Pneumatic Off-the-Road Tires from the People's Republic of China: Request for Administrative Review,” dated October 1, 2018.

Preliminary Results of Review

As a result of this review, we preliminarily determine that, during the period January 1, 2017 through December 31, 2017, the following estimated countervailable subsidy rate exists:

Company | Subsidy rate (percent)
Weihai Zhongwei Rubber Co., Ltd. (Zhongwei) | 24.49

Disclosure and Public Comment

Commerce will disclose to parties to this proceeding the calculations performed in reaching the preliminary results within five days of the date of publication of these preliminary results.⁶ Interested parties may submit written comments (case briefs) within 30 days of publication of the preliminary results and rebuttal comments (rebuttal briefs) within five days after the time limit for filing case briefs.⁷ Rebuttal briefs must be limited to issues raised in the case briefs.⁸ Parties who submit case or rebuttal briefs are requested to submit with the argument: (1) A statement of the issue; (2) a brief summary of the argument; and (3) a table of authorities.⁹

⁶ See 19 CFR 351.224(b).

⁷ See 19 CFR 351.309(c)(l)(ii) and 351.309(d)(l).

⁸ See 19 CFR 351.309(d)(2).

⁹ See 19 CFR 351.309(c)(2) and (d)(2).

Interested parties who wish to request a hearing must do so within 30 days of publication of these preliminary results by submitting a written request to the Assistant Secretary for Enforcement and Compliance, U.S. Department of Commerce, using Enforcement and Compliance's ACCESS system.¹⁰ Requests should contain the party's name, address and telephone number, the number of participants, and a list of the issues to be discussed. If a request for a hearing is made, we will inform parties of the scheduled date for the hearing which will be held at the U.S. Department of Commerce, 1401 Constitution Avenue NW, Washington, DC 20230, at a time and location to be determined.¹¹ Parties should confirm by telephone the date, time, and location of the hearing. Issues addressed at the hearing will be limited to those raised in the briefs.¹² All briefs and hearing requests must be filed electronically and received successfully in their entirety through ACCESS by 5:00 p.m. Eastern Time on the due date.

¹⁰ See 19 CFR 351.310(c).

¹¹ See 19 CFR 351.310.

¹² See 19 CFR 351.310(c).

Unless the deadline is extended pursuant to section 751(a)(3)(A) of the Act, Commerce intends to issue the final results of this administrative review, including the results of our analysis of the issues raised by the parties in their comments, within 120 days after publication of these preliminary results.

Assessment Rates

Upon issuance of the final results, Commerce shall determine, and U.S. Customs and Border Protection (CBP) shall assess, countervailing duties on all appropriate entries covered by this review. We intend to issue instructions to CBP 15 days after publication of the final results of review.

Cash Deposit Requirement

On May 10, 2019, as a result of the five-year (sunset) review, Commerce revoked the OTR Tires China CVD Order.¹³ In the Revocation Notice, Commerce stated that it intended to issue instructions to CBP to terminate the suspension of liquidation and to discontinue the collection of cash deposits on entries of subject merchandise, entered or withdrawn from warehouse, on or after February 4, 2019.¹⁴ Furthermore, because the OTR Tires China CVD Order has been revoked as a result of the Revocation Notice, Commerce will not issue cash deposit instructions at the conclusion of this administrative review.

¹³ See Certain New Pneumatic Off-the-Road Tires from the People's Republic of China: Final Results of Sunset Reviews and Revocation of Antidumping Duty and Countervailing Duty Orders, 84 FR 20616 (May 10, 2019) (Revocation Notice).

¹⁴ See Revocation Notice, 84 FR at 20618.

Notification of Interested Parties

These preliminary results of review are issued and published in accordance with sections 751(a)(l) and 777(i)(l) of the Act and 19 CFR 351.213 and 351.221(b)(4).

Dated: November 12, 2019.
Jeffrey I. Kessler,
Assistant Secretary for Enforcement and Compliance.

Appendix—List of Topics Discussed in the Preliminary Decision Memorandum

I. Summary

II. Background

III. Scope of the Order

IV. Partial Rescission of Administrative Review

V. Use of Facts Otherwise Available and Application of Adverse Inferences

VI. Diversification of China's Economy

VII. Subsidies Valuation

VIII. Benchmarks and Discount Rates

IX. Analysis of Programs

X. Disclosure and Public Comment

XI. Recommendation

[FR Doc. 2019-24899 Filed 11-15-19; 8:45 am]

BILLING CODE 3510-DS-P